ENVIRONMENTAL PROTECTION AGENCY

40 CFR Part 52

[EPA-R07-OAR-2012-0158; FRL-9656-2]

Approval, Disapproval and Promulgation of Implementation Plans; Nebraska; Regional Haze State Implementation Plan; Federal Implementation Plan for Best Available Retrofit Technology Determination; Extension of Public Comment Period

AGENCY: Environmental Protection Agency (EPA).

ACTION: Proposed rule; extension of public comment period and opportunity for public hearing.

SUMMARY: On March 2, 2012, EPA proposed several related actions regarding a State Implementation Plan (SIP) submitted by Nebraska to address its obligations under the Clean Air Act (CAA) with respect to regional haze for the first implementation period. One such action was EPA's proposal of a Federal Implementation Plan (FIP) relying on the Transport Rule to satisfy Best Available Retrofit Technology (BART) requirements for sulfur dioxide (SO2) at one source in Nebraska to address deficiencies in the State's implementation plan for regional haze. The original public comments due date was April 2, 2012. EPA is extending the public comment period until May 2, 2012 in order to allow for submission of comments or supplementary information relevant to the proposed action. EPA is also providing notice of opportunity for a public hearing in Kansas City, Kansas, on the proposed FIP, to be held if requested.

DATES: The comment period for the proposed rule published March 2, 2012 (77 FR 12270), is extended. EPA will accept public comments on or before May 2, 2012. If requested by April 9, 2012, a public hearing will be held on April 18, 2012, at the U.S. Environmental Protection Agency, Region 7, Room 2240A, 901 N. 5th Street, Kansas City, Kansas from 3:30 p.m. until 5:30 p.m. Parties interested in the status of the public hearing may contact Ms. Chrissy Wolfersberger by phone using the contact information provided below or they may consult the following link: http://www.epa.gov/region7/public_notices/.

ADDRESSES: Instructions for comment submittal. Submit your comments, identified by Docket No. EPA-R07-OAR-2012-0158, by one of the following methods:

1. Federal e-Rulemaking Portal: http://www.regulations.gov. Follow the online instructions for submitting comments.

2. Email: wolfersberger.chris@epa.gov.

3. Mail: Ms. Chrissy Wolfersberger, Air Planning and Development Branch, U.S. Environmental Protection Agency, Region 7, 901 N. 5th Street, Kansas City, Kansas 66101.

4. Hand or Courier Delivery: U.S. Environmental Protection Agency, Region 7, Air Planning and Development Branch, 901 N. 5th Street, Kansas City, Kansas 66101; attention: Chrissy Wolfersberger. Such deliveries are accepted only between the hours of 8 a.m. and 5 p.m. weekdays, excluding Federal holidays. Special arrangements should be made for deliveries of boxed information.

5. Fax: (913) 551-7864. Please alert the individual listed in the FOR FURTHER INFORMATION CONTACT section if you are faxing comments.

EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means we will not know your identity or contact information unless you provide it in the body of your comment. If you send an email comment directly to EPA without going through www.regulations.gov your email address will be automatically captured and included as part of the comment that is placed in the public docket and made available on the Internet. If you submit an electronic comment, we recommend that you include your name and other contact information in the body of your comment and with any disk or CD-ROM you submit. If we cannot read your comment due to technical difficulties and cannot contact you for clarification, we may not be able to consider your comment. Electronic files should avoid the use of special characters, any form of encryption, and be free of any defects or viruses. For additional information about EPA's public docket visit the EPA Docket Center homepage at www.epa.gov/epahome/dockets.htm.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the Air Planning and Development Branch, U.S. Environmental Protection Agency, Region 7, 901 N. 5th Street, Kansas City, Kansas 66101. EPA requests that if at all possible, you contact the individual listed in the FOR FURTHER INFORMATION CONTACT section to view the hard copy of the docket. You may view the hard copy of the docket Monday through Friday, 8 a.m. to 5 p.m. excluding Federal holidays.

FOR FURTHER INFORMATION CONTACT: Ms. Chrissy Wolfersberger, Air Planning and Development Branch, U.S. Environmental Protection Agency, Region 7, 901 N. 5th Street, Kansas City, Kansas 66101, by email at wolfersberger.chris@epa.gov, or by telephone at (913) 551-7864.

Dated: March 29, 2012.
Karl Brooks,
Regional Administrator, Region 7.

[FR Doc. 2012-8194 Filed 4-3-12; 8:45 am]

BILLING CODE 6560-50-P